DEPARTMENT OF ENERGY

Federal Energy Regulatory Commission

[Project No. 1864-079]

Upper Peninsula Power Company; Notice of Availability of Environmental Assessment

September 3, 2008.

In accordance with the National Environmental Policy Act of 1969 and the Federal Energy Regulatory Commission's regulations, 18 CFR part 380 (Order No. 486, 52 FR 47879), the Office of Energy Projects has reviewed the proposed lake level amendment for the Bond Falls Project, located in the Ontonagon River Basin in Ontonagon and Gogebic Counties, Michigan and Vilas County, Wisconsin, and has prepared a Final Environmental Assessment (EA). The EA evaluates the environmental impacts that would result from revising the summer season end of month target lake level elevations and minimum flow trigger flow elevations pursuant to license Articles 401 and 402, respectively. The EA finds that approval of the amendment application would not constitute a major federal action significantly affecting the quality of the human environment.

A copy of the EA is attached to a Commission order titled “Order Amending License Articles 401 and 402” issued August 26, 2008, and is available for review at the Commission in the Public Reference Room, or it may be viewed on the Commission's Web site at http://www.ferc.gov using the eLibrary link. Enter the docket number (P-1864) excluding the last three digits in the docket number field to access the document. For assistance, call toll-free at 1 (866)-208-3372, or for TTY, (202) 502-8659.

Kimberly D. Bose,
Secretary.

[FR Doc. E8-20863 Filed 9-8-08; 8:45 am]

BILLING CODE 6717-01-P